DEPARTMENT OF ENERGY

Federal Energy Regulatory Commission

[Docket No. IN15-5-000]

City Power Marketing, LLC; K. Stephen Tsingas; Notice of Designation of Commission Staff As Non-Decisional

With respect to an order issued by the Commission on March 6, 2015 in the above-captioned docket,¹ with the exceptions noted below, the staff of the Office of Enforcement are designated as non-decisional in deliberations by the Commission in this docket. Accordingly, pursuant to 18 CFR 385.2202 (2014), they will not serve as advisors to the Commission or take part in the Commission's review of any offer of settlement. Likewise, as non-decisional staff, pursuant to 18 CFR 385.2201 (2014), they are prohibited from communicating with advisory staff concerning any deliberations in this docket.

¹ City Power Marketing, LLC and K. Stephen Tsingas, 150 FERC ¶ 61,176 (2015).

Exceptions to this designation as non-decisional are:

Larry Gasteiger, Geof Hobday, Tegan Flynn, Jay Matson, Jeremy Medovoy, Paul Varnado, Sean Collins, Carrie Milton, John Karp, Taylor Martin, Jamie Marcos.

Dated: March 6, 2015.
Nathaniel J. Davis, Sr.,
Deputy Secretary.

[FR Doc. 2015-05869 Filed 3-13-15; 8:45 am]

BILLING CODE 6717-01-P